DEPARTMENT OF DEFENSE

Defense Finance and Accounting Service

Privacy Act of 1974; System of Records

AGENCY: Defense Finance and Accounting Service.

ACTION: Notice to add a new system of records.

SUMMARY: The Defense Finance and Accounting Service (DFAS) is proposing to add a system of records notice to its inventory of record systems subject to the Privacy Act of 1974 (5 U.S.C. 552a), as amended.

DATES: This Action will be effective without further notice on April 20, 2006 unless comments are received that would result in a contrary determination.

ADDRESSES: Send comments to the FOIA/PA Program Manager, Corporate Communications, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register, and are available from the address above.

The proposed system report, as required by 5 U.S.C. 552a(r) of the Privacy Act of 1974, as amended, was submitted on March 14, 2006, to the House Committee on Government Reform, the Senate Committee on Governmental Affairs, and the Office of Management and Budget (OMB) pursuant to paragraph 4c of Appendix I to OMB Circular No. A-130, ‘Federal Agency Responsibilities for Maintaining Records About Individuals,' dated February 8, 1996 (February 20, 1996, 61 FR 6427).

Dated: March 15, 2006.
L.M. Bynum,
OSD Federal Register Liaison Officer, Department of Defense.

T7340a

System name:

Battle Injured/Non-Battle Injured Pay Account Management System.

System location:

Defense Finance and Accounting Service—Indianapolis Center, 8899 E. 56th Street, Indianapolis, IN 46249-0001.

Categories of individuals covered by the system:

Current and former Army military active duty personnel; military active and inactive Reserve and National Guard personnel; retired military personnel who have been injured whether Battlefield Injury, Non Battlefield Injury or Disease Non Battlefield Injury in support of Operation Iraqi Freedom and Operation Enduring Freedom.

Categories of records in the system:

Name; Social Security number (SSN); grade or rank; injury type; military pay account status codes; records of hospitalization periods; overpayments of pay and allowances; record of travel payments; locations of active duty, reserve, and retired military soldiers.

Authority for maintenance of the system:

5 U.S.C. 301, Departmental Regulations, 31 U.S.C., 37 U.S.C.; E.O. 9397 (SSN).

Purpose(s):

To ensure accurate and timely military pay to active and reserve component military members who have been injured whether Battlefield Injury, Non Battlefield Injury or Disease Non Battlefield Injury in support of Operation Iraqi Freedom and Operation Enduring Freedom. To Document and account for military pay and allowance disbursements and collections; to verify and account for system input transactions; to identify, correct, and collect overpayments; to establish, control, and maintain member indebtedness of pay and allowances; and to provide timely, complete master individual pay account review; and to provide internal and external managers with statistical and monetary reports, and to maintain a record of related personnel data.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Veterans Affairs to assist military personnel and their dependents in determining the status of monthly pay and allowances, dependents' allotments and related financial transactions; and to perform other relief-related duties as requested by the service member.

The ‘Blanket Routine Uses’ published at the beginning of the DFAS compilation of systems of records notices also apply to this system.

Disclosure to consumer reporting agencies:

Disclosures pursuant to 5 U.S.C. 552a(b)(12) may be made from this system to ‘consumer reporting agencies’ as defined in the Fair Credit Reporting Act, 15 U.S.C. 1681a(f) or the Federal Claims Collection Act of 1966, 31 U.S.C. 3701(a)(3). The purpose of this disclosure is to aid in the collection of outstanding debts owed to the Federal government; typically to provide an incentive for debtors to repay delinquent Federal government debts by making these debts part of their credit records.

The disclosure is limited to information necessary to establish the identity of the individual, including name, address, and taxpayer identification number (SSN); the amount, status, and history of the claim; and the agency or program under which the claim arose for the sole purpose of allowing the consumer reporting agency to prepare a commercial credit report.

Policies and practices for storing, retrieving, accessing, retaining, and disposing of records in the system:

Storage:

Data is recorded on magnetic tapes and disks, computer printouts, computer output products (microform and reports); file folders, notebooks, binders, card files, and bulk storage, and other documents.

Retrievability:

Information is retrieved by name and Social Security Number.

Safeguards:

Records are stored in office buildings protected by guards, controlled screening, use of visitor registers, electronic access, and/or locks. Access to records is limited to individuals who are properly screened and cleared on a need-to-know basis in the performance of their official duties. Passwords and digital signatures are used to control access to the systems data, and procedures are in place to deter and detect browsing and unauthorized access. Physical and electronic access are limited to persons responsible for servicing and authorized to use the record system.

Retention and disposal:

Records in this system are maintained in accordance with the DFAS disposition schedule for 6 years and 3 months.

System manager(s) and address:

Chief, Mobilization/Demobilization, Military Pay, Defense Finance and Accounting Service, 8899 East 56th Street, Indianapolis Defense Finance and Accounting Service—Indianapolis Center, 8899 E. 56th Street, Indianapolis, IN 46249-0001.

Notification procedure:

Individuals seeking to determine whether information about themselves is contained in this system of records should address written inquiries to the Defense Finance and Accounting Service, Corporate Communications, Freedom of Information Act/Privacy Act Program Manager, 6760 E. Irvington Place, Denver, CO 80279-8000.

Individual should provide their full name, Social Security Number, office or organization where currently assigned, if applicable, and current address, and telephone number.

Record access procedures:

Individuals seeking access to information about themselves in this system of records should address written inquiries to the Defense Finance and Accounting Service, Corporate Communications, Freedom of Information Act/Privacy Act Program Manager, 6760 E. Irvington Place, Denver, CO 80279-8000.

Individuals should provide their full name, Social Security number, office or organization where currently assigned, if applicable, current home address, and telephone number.

Contesting record procedures:

The DFAS rules for accessing records, for contesting contents and appealing initial agency determinations are published in DFAS Regulation 5400.11-R; 32 CFR part 324; or may be obtained from the Freedom of Information/Privacy Act Program Manager, Corporate Communications, 6760 E. Irvington Place, Denver, CO 80279-8000.

Record source categories:

Individual members; Department of Defense staff and field installations; Department of Veterans Affairs, Human Resource Command, Disabled Soldiers Support System, and other Federal agencies; Medical systems and institutions; Personnel Systems and institutions; Department of Defense Components; and state and local government agencies.

Exemptions claimed for the system:

None.

[FR Doc. 06-2684 Filed 3-20-06; 8:45 am]

BILLING CODE 5001-06-M